DEPARTMENT OF THE INTERIOR

Bureau of Land Management

[MT-926-04-9820-BJ-MT01]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Randy W. Thomas, Cadastral Surveyor, Branch of Cadastral Survey, Bureau of Land Management, 5001 Southgate Drive, P.O. Box 36800, Billings, Montana 59107-6800, telephone (406) 896-5134 or (406) 896-5009.

SUPPLEMENTARY INFORMATION: This survey was executed at the request of the U.S. Forest Service and was necessary to determine unsurveyed Forest Service land. The lands we surveyed are:

Principal Meridian, Montana

Tps. 7 S., Rs. 26 and 27 E.

The plat, in two sheets, representing the dependent resurvey of a portion of the south boundary of the Crow Indian Reservation, through Townships 7 South, Ranges 26 and 27 East, a portion of certain Homestead Entry Surveys and Tract No. 37, and the survey of a portion of the east boundary, a portion of the subdivisional lines, the subdivision of parcel B, Homestead Entry Survey No. 591, into Parcels C and D, and lot 7, in section 23, and a line connecting Homestead Entry Survey Nos. 165 and 598, Township 7 South, Ranges 26 and 27 East, Principal Meridian, Montana, was accepted March 18, 2004.

We will place copies of the plat, in two sheets, and related field notes we described in the open files. They will be available to the public as a matter of information.

If BLM receives a protest against this survey, as shown on this plat, in two sheets, prior to the date of the official filing, we will stay the filing pending our consideration of the protest.

We will not officially file this plat, in two sheets, until the day after we have accepted or dismissed all protests and they have become final, including decisions or appeals.

Dated: March 29, 2004.
Steven G. Schey,
Acting Chief Cadastral Surveyor, Division of Resources.

[FR Doc. 04-7481 Filed 4-1-04; 8:45 am]

BILLING CODE 4310-$$-P